DEPARTMENT OF ENERGY

Federal Energy Regulatory Commission

Combined Notice of Filings #1

September 29, 2010.

Take notice that the Commission received the following electric corporate filings:

Docket Numbers: EC10-102-000.

Applicants: NRG Energy, Inc, NRG Retail Acquisition Inc., Green Mountain Energy Company.

Description: Application for Authorization under Section 203 of the Federal Power Act, request for Expedited Treatment, and Request for Confidential Treatment of NRG Energy, Inc, et al.

Filed Date 09/28/2010.

Accession Number: 20100928-5415.

Comment Date: 5 p.m. Eastern Time on Tuesday, October 19, 2010.

Docket Numbers: EC10-103-000.

Applicants: The Goldman Sachs Group, Inc.

Description: Request for reauthorization and extension of existing blanket authorization to acquire securities under section 203(a)(2) of the FPA and request for expedited action.

Filed Date 09/28/2010.

Accession Number: 20100928-5475.

Comment Date: 5 p.m. Eastern Time on Tuesday, October 19, 2010.

Take notice that the Commission received the following electric rate filings:

Docket Numbers: ER10-1798-001.

Applicants: Northern States Power Company, a Wisconsin Corporation

Description: Northern States Power Company, a Wisconsin corporation submits tariff filing per 35: 20100929_Compliance Filing Revising Baseline to be effective 7/16/2010.

Filed Date 09/29/2010.

Accession Number: 20100929-5228.

Comment Date: 5 p.m. Eastern Time on Wednesday, October 20, 2010.

Docket Numbers: ER10-1866-002.

Applicants: New York Independent System Operator, Inc.

Description: New York Independent System Operator, Inc submits revisions to its Market Administration and Control Area Services Tariff, to be effective 9/30/2010.

Filed Date 09/28/2010.

Accession Number: 20100928-5449.

Comment Date: 5 p.m. Eastern Time on Tuesday, October 19, 2010.

Docket Numbers: ER10-2345-001.

Applicants: Domtar Maine, LLC.

Description: Domtar Maine, LLC submits Responses to Data Requests and Updated Tariff, to be effective 9/29/2010.

Filed Date 09/29/2010.

Accession Number: 20100929-5010.

Comment Date: 5 p.m. Eastern Time on Friday, October 08, 2010.

Docket Numbers: ER10-3113-000.

Applicants: The Dayton Power and Light Company.

Description: The Dayton Power and Light Company submits tariff filing per 35.13(a)(2)(iii: FERC Rate Schedule No. 43, Village of Jackson Center to be effective 9/28/2010.

Filed Date 09/28/2010.

Accession Number: 20100928-5414.

Comment Date: 5 p.m. Eastern Time on Tuesday, October 19, 2010.

Docket Numbers: ER10-3114-000.

Applicants: AES Eastern Energy, L.P.

Description: AES Eastern Energy, L.P. submits tariff filing per 35.12: AES Eastern Baseline Filing to be effective 9/28/2010.

Filed Date 09/28/2010.

Accession Number: 20100928-5417.

Comment Date: 5 p.m. Eastern Time on Tuesday, October 19, 2010.

Docket Numbers: ER10-3115-000.

Applicants: Waterside Power, LLC.

Description: Waterside Power, LLC submits tariff filing per 35.12: Baseline Filing to be effective 9/28/2010.

Filed Date 09/28/2010.

Accession Number: 20100928-5418.

Comment Date: 5 p.m. Eastern Time on Tuesday, October 19, 2010.

Docket Numbers: ER10-3116-000.

Applicants: AES Energy Storage, LLC.

Description: AES Energy Storage, LLC submits tariff filing per 35.12: AES Energy Storage Baseline Filing to be effective 9/28/2010.

Filed Date 09/28/2010.

Accession Number: 20100928-5420.

Comment Date: 5 p.m. Eastern Time on Tuesday, October 19, 2010.

Docket Numbers: ER10-3117-000.

Applicants: Lea Power Partners, LLC.

Description: Lea Power Partners, LLC submits tariff filing per 35.12: Baseline Filing to be effective 9/28/2010.

Filed Date 09/28/2010.

Accession Number: 20100928-5421.

Comment Date: 5 p.m. Eastern Time on Tuesday, October 19, 2010.

Docket Numbers: ER10-3118-000

Applicants: AES ES Westover, LLC.

Description: AES ES Westover, LLC submits tariff filing per 35.12: AES ES Westover Baseline Filing to be effective 9/28/2010.

Filed Date 09/28/2010.

Accession Number: 20100928-5422.

Comment Date: 5 p.m. Eastern Time on Tuesday, October 19, 2010.

Docket Numbers: ER10-3119-000.

Applicants: Praxair Plainfield, Inc.

Description: Praxair Plainfield, Inc. submits tariff filing per 35.12: Praxair Plainfield MBR Tariff to be effective 9/29/2010.

Filed Date 09/28/2010.

Accession Number: 20100928-5423.

Comment Date: 5 p.m. Eastern Time on Tuesday, October 19, 2010.

Docket Numbers: ER10-3120-000.

Applicants: AES Huntington Beach, L.L.C.

Description: AES Huntington Beach, L.L.C. submits tariff filing per 35.12: AES Huntington Beach Baseline Filing to be effective 9/28/2010.

Filed Date 09/28/2010.

Accession Number: 20100928-5425.

Comment Date: 5 p.m. Eastern Time on Tuesday, October 19, 2010.

Docket Numbers: ER10-3121-000.

Applicants: AES Ironwood, L.L.C.

Description: AES Ironwood, L.L.C. submits tariff filing per 35.12: AES Ironwood Baseline filing to be effective 9/28/2010.

Filed Date 09/28/2010.

Accession Number: 20100928-5426.

Comment Date: 5 p.m. Eastern Time on Tuesday, October 19, 2010.

Docket Numbers: ER10-3122-000.

Applicants: AES Placerita, Incorporated.

Description: AES Placerita, Incorporated submits tariff filing per 35.12: AES Placerita Baseline Filing to be effective 9/28/2010.

Filed Date 09/28/2010.

Accession Number: 20100928-5428.

Comment Date: 5 p.m. Eastern Time on Tuesday, October 19, 2010.

Docket Numbers: ER10-3123-000.

Applicants: Standard Binghamton LLC.

Description: Standard Binghamton LLC submits tariff filing per 35.12: Standard Binghamton LLC FERC Electric MBR Filing to be effective 9/28/2010.

Filed Date 09/28/2010.

Accession Number: 20100928-5429.

Comment Date: 5 p.m. Eastern Time on Tuesday, October 19, 2010.

Docket Numbers: ER10-3124-000.

Applicants: Noble Altona Windpark, LLC.

Description: Noble Altona Windpark, LLC submits tariff filing per 35.12: Baseline Filing for Noble Altona Windpark, LLC to be effective 9/28/2010.

Filed Date 09/28/2010.

Accession Number: 20100928-5430.

Comment Date: 5 p.m. Eastern Time on Tuesday, October 19, 2010.

Docket Numbers: ER10-3125-000.

Applicants: AL Sandersville, LLC.

Description: AL Sandersville, LLC submits tariff filing per 35.12: Baseline Filing to be effective 9/28/2010.

Filed Date 09/28/2010.

Accession Number: 20100928-5431.

Comment Date: 5 p.m. Eastern Time on Tuesday, October 19, 2010.

Docket Numbers: ER10-3126-000.

Applicants: AES Red Oak, L.L.C.

Description: AES Red Oak, L.L.C. submits tariff filing per 35.12: AES Red Oak Baseline Filing to be effective 9/28/2010.

Filed Date 09/28/2010.

Accession Number: 20100928-5432.

Comment Date: 5 p.m. Eastern Time on Tuesday, October 19, 2010.

Docket Numbers: ER10-3127-000.

Applicants: Noble Bellmont Windpark, LLC.

Description: Noble Bellmont Windpark, LLC submits tariff filing per 35.12: Baseline Filing for Noble Bellmont Windpark, LLC to be effective 9/28/2010.

Filed Date 09/28/2010.

Accession Number: 20100928-5433.

Comment Date: 5 p.m. Eastern Time on Tuesday, October 19, 2010.

Docket Numbers: ER10-3128-000.

Applicants: AES Redondo Beach, L.L.C.

Description: AES Redondo Beach, L.L.C. submits tariff filing per 35.12: AES Redondo Beach Baseline Filing to be effective 9/28/2010.

Filed Date 09/28/2010.

Accession Number: 20100928-5434.

Comment Date: 5 p.m. Eastern Time on Tuesday, October 19, 2010.

Docket Numbers: ER10-3129-000.

Applicants: Noble Bliss Windpark, LLC.

Description: Noble Bliss Windpark, LLC submits tariff filing per 35.12: Baseline Filing for Noble Bliss Windpark, LLC to be effective 9/28/2010.

Filed Date 09/28/2010.

Accession Number: 20100928-5435.

Comment Date: 5 p.m. Eastern Time on Tuesday, October 19, 2010.

Docket Numbers: ER10-3130-000.

Applicants: Noble Chateaugay Windpark, LLC.

Description: Noble Chateaugay Windpark, LLC submits tariff filing per 35.12: Baseline Filing for Noble Chateaugay Windpark, LLC to be effective 9/28/2010.

Filed Date 09/28/2010.

Accession Number: 20100928-5437.

Comment Date: 5 p.m. Eastern Time on Tuesday, October 19, 2010.

Docket Numbers: ER10-3131-000.

Applicants: Condon Wind Power, LLC.

Description: Condon Wind Power, LLC submits tariff filing per 35.12: Condon Wind Power Baseline Filing to be effective 9/28/2010.

Filed Date 09/28/2010.

Accession Number: 20100928-5438.

Comment Date: 5 p.m. Eastern Time on Tuesday, October 19, 2010.

Docket Numbers: ER10-3132-000.

Applicants: Noble Clinton Windpark I, LLC.

Description: Noble Clinton Windpark I, LLC submits tariff filing per 35.12: Baseline Filing for Noble Clinton Windpark I, LLC to be effective 9/28/2010.

Filed Date 09/28/2010.

Accession Number: 20100928-5439.

Comment Date: 5 p.m. Eastern Time on Tuesday, October 19, 2010.

Docket Numbers: ER10-3133-000.

Applicants: Nalcor Energy.

Description: Nalcor Energy submits tariff filing per 35.12: Nalcor Energy MBR Tariff to be effective 9/28/2010.

Filed Date: 09/28/2010.

Accession Number: 20100928-5440.

Comment Date: 5 p.m. Eastern Time on Tuesday, October 19, 2010.

Docket Numbers: ER10-3134-000.

Applicants: Noble Ellenburg Windpark, LLC.

Description: Noble Ellenburg Windpark, LLC submits tariff filing per 35.12: Baseline Filing for Noble Ellenburg Windpark, LLC to be effective 9/28/2010.

Filed Date: 09/28/2010.

Accession Number: 20100928-5441.

Comment Date: 5 p.m. Eastern Time on Tuesday, October 19, 2010.

Docket Numbers: ER10-3135-000.

Applicants: Noble Great Plains Windpark, LLC.

Description: Noble Great Plains Windpark, LLC submits tariff filing per 35.12: Baseline Filing for Noble Great Plains Windpark, LLC to be effective 9/28/2010.

Filed Date: 09/28/2010.

Accession Number: 20100928-5442.

Comment Date: 5 p.m. Eastern Time on Tuesday, October 19, 2010.

Docket Numbers: ER10-3136-000.

Applicants: Mountain View Power Partners, LLC.

Description: Mountain View Power Partners, LLC submits tariff filing per 35.12: Mountain View Baseline Filing to be effective 9/28/2010.

Filed Date: 09/28/2010.

Accession Number: 20100928-5443.

Comment Date: 5 p.m. Eastern Time on Tuesday, October 19, 2010.

Docket Numbers: ER10-3137-000.

Applicants: Noble Wethersfield Windpark, LLC.

Description: Noble Wethersfield Windpark, LLC submits tariff filing per 35.12: Baseline Filing for Noble Wethersfield Windpark, LLC to be effective 9/28/2010.

Filed Date: 09/28/2010.

Accession Number: 20100928-5444.

Comment Date: 5 p.m. Eastern Time on Tuesday, October 19, 2010.

Docket Numbers: ER10-3138-000.

Applicants: Denver City Energy Associates, LP.

Description: Denver City Energy Associates, LP submits tariff filing per 35.12: Baseline Filing to be effective 9/28/2010.

Filed Date: 09/28/2010.

Accession Number: 20100928-5447.

Comment Date: 5 p.m. Eastern Time on Tuesday, October 19, 2010.

Docket Numbers: ER10-3139-000.

Applicants: Black River Generation, LLC.

Description: Black River Generation, LLC submits tits baseline Market-Based Rate Tariff, FERC Electric Tariff No. 1, to be effective 9/28/2010.

Filed Date: 09/28/2010.

Accession Number: 20100928-5448.

Comment Date: 5 p.m. Eastern Time on Tuesday, October 19, 2010.

Docket Numbers: ER10-3140-000.

Applicants: Inland Empire Energy Center, LLC.

Description: Inland Empire Energy Center, LLC submits its Baseline Filing for Market-Based Rate Tariff, FERC Electric Tariff, First Revised Volume No 1, to be effective 9/28/2010.

Filed Date: 09/29/2010.

Accession Number: 20100929-5013.

Comment Date: 5 p.m. Eastern Time on Wednesday, October 20, 2010.

Docket Numbers: ER10-3141-000.

Applicants: Avista Corporation.

Description: Avista Corporation submits First Revised FERC Rate Scheduled No 184 and Exchange Agreement with Bonneville Power Administration, to be effective 9/29/2010.

Filed Date: 09/29/2010.

Accession Number: 20100929-5016.

Comment Date: 5 p.m. Eastern Time on Wednesday, October 20, 2010.

Docket Numbers: ER10-3142-000.

Applicants: AEE2, L.L.C.

Description: AEE2, L.L.C. submits tariff filing per 35.12: AEE2 Baseline Filing to be effective 9/28/2010.

Filed Date: 09/28/2010.

Accession Number: 20100928-5453.

Comment Date: 5 p.m. Eastern Time on Tuesday, October 19, 2010.

Docket Numbers: ER10-3143-000.

Applicants: Sabine Cogen, LP.

Description: Sabine Cogen, LP submits tariff filing per 35.12: Baseline Filing to be effective 9/28/2010.

Filed Date: 09/28/2010.

Accession Number: 20100928-5454.

Comment Date: 5 p.m. Eastern Time on Tuesday, October 19, 2010.

Docket Numbers: ER10-3144-000.

Applicants: Entegra Power Services LLC.

Description: Entegra Power Services LLC submits tariff filing per 35.12: Entegra Power FERC Electric Tariff to be effective 9/28/2010.

Filed Date: 09/28/2010.

Accession Number: 20100928-5455.

Comment Date: 5 p.m. Eastern Time on Tuesday, October 19, 2010.

Docket Numbers: ER10-3145-000.

Applicants: AES Alamitos, LLC.

Description: AES Alamitos, LLC submits tariff filing per 35.12: AES Alamitos Baseline Filing to be effective 9/28/2010.

Filed Date: 09/28/2010.

Accession Number: 20100928-5456.

Comment Date: 5 p.m. Eastern Time on Tuesday, October 19, 2010.

Docket Numbers: ER10-3146-000.

Applicants: Praxair, Inc.

Description: Praxair, Inc. submits tariff filing per 35.12: Praxair MBR Tariff to be effective 9/29/2010.

Filed Date: 09/28/2010.

Accession Number: 20100928-5457.

Comment Date: 5 p.m. Eastern Time on Tuesday, October 19, 2010.

Docket Numbers: ER10-3147-000.

Applicants: AES Armenia Mountain Wind, LLC.

Description: AES Armenia Mountain Wind, LLC submits tariff filing per 35.12: AES Armenia Baseline Filing to be effective 9/28/2010.

Filed Date: 09/28/2010.

Accession Number: 20100928-5458.

Comment Date: 5 p.m. Eastern Time on Tuesday, October 19, 2010.

Docket Numbers: ER10-3148-000.

Applicants: AES Creative Resources, L.P.

Description: AES Creative Resources, L.P. submits tariff filing per 35.12: AES Creative Res Baseline Filing to be effective 9/28/2010.

Filed Date: 09/28/2010.

Accession Number: 20100928-5459.

Comment Date: 5 p.m. Eastern Time on Tuesday, October 19, 2010.

Docket Numbers: ER10-3149-000.

Applicants: Galt Power, Inc.

Description: Galt Power, Inc. submits its baseline tariff pursuant to Order No. 714, to be effective 9/28/2010.

Filed Date: 09/29/2010.

Accession Number: 20100929-5019.

Comment Date: 5 p.m. Eastern Time on Wednesday, October 20, 2010.

Docket Numbers: ER10-3150-000.

Applicants: Sunoco Power Generation LLC.

Description: Sunoco Power Generation LLC submits its baseline filing of Market-Based Rate Authority, to be effective 9/29/2010.

Filed Date: 09/29/2010.

Accession Number: 20100929-5020.

Comment Date: 5 p.m. Eastern Time on Wednesday, October 20, 2010.

Docket Numbers: ER10-3151-000.

Applicants: NV Energy, Inc.

Description: NV Energy, Inc. submits tariff filing per 35.12: OATT Baseline Filing for NV Energy, Inc. Operating Companies to be effective 9/29/2010.

Filed Date: 09/29/2010.

Accession Number: 20100929-5023.

Comment Date: 5 p.m. Eastern Time on Wednesday, October 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25370 Filed 10-7-10; 8:45 am]

BILLING CODE 6717-01-P